DEPARTMENT OF THE INTERIOR

National Park Service

[NPS-WASO-CR-NAGPRA-NPS0033415; PPWOCRADN0-PCU00RP14.R50000 (222); OMB Control Number 1024-0144]

Agency Information Collection Activities; Submission to the Office of Management and Budget for Review and Approval; Native American Graves Protection and Repatriation Regulations

AGENCY: National Park Service, Interior.

ACTION: Notice of Information Collection; request for comment.

SUMMARY: In accordance with the Paperwork Reduction Act of 1995, we, the National Park Service (NPS) are proposing to renew an information collection.

DATES: Interested persons are invited to submit comments on or before April 11, 2022.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 12201 Sunrise Valley Drive, (MS-242) Reston, VA 20191 (mail); or phadrea_ponds@nps.gov (email). Please include OMB Control Number 1024-0144 in the subject line of your comments.

FOR FURTHER INFORMATION CONTACT: To request additional information about this ICR, contact Melanie O'Brien, Manager, National NAGPRA Program by email at melanie_o'brien@nps.gov, or by telephone at (202) 354-2204. Individuals in the United States who are deaf, deafblind, hard of hearing, or have a speech disability may dial 711 (TTY, TDD, or TeleBraille) to access telecommunications relay services. Individuals outside the United States should use the relay services offered within their country to make international calls to the point-of-contact in the United States. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 9, 2021 (86 FR 62203). The public comment period ended on January 10, 2022. No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Authorized by the Native American Graves Protection and Repatriation Act (NAGPRA or the Act 25 U.S.C. 3001-3013), all public and private museums receiving Federal funds are required to compile information regarding Native American cultural items in their possession or control. This information must be provided to lineal descendants, likely interested Indian tribes, Native Hawaiian organizations, and the NPS National NAGPRA Program. Under NAGPRA and its implementing regulations, we are mandated to collect any information that is pertinent in determining the cultural affiliation and geographical origin of Native American human remains and cultural items. This includes descriptions, acquisition data, and records of consultation. Once the identity and cultural affiliation of human remains and cultural items are determined, the museum must send written notice of determination to the affected Indian tribes or Native Hawaiian organizations and the NAGPRA Program for publication in the Federal Register.

Title of Collection: Native American Graves Protection and Repatriation Regulations.

OMB Control Number: 1024-0144.

Form Number: None.

Type of Review: Extension of a currently approved collection.

Respondents/Affected Public: State, local and tribal governments, universities, museums, etc. that receive Federal funds and have possession of, or control over, Native American human remains, funerary objects, sacred objects, or objects of cultural patrimony. Total Estimated Number of Annual Respondents: 448.

Total Estimated Number of Annual Responses: 448.

Estimated Completion Time per Response: Varies from 0.5 hours to 100 hours depending on respondent and/or activity.

Total Estimated Number of Annual Burden Hours: 4,470.

Respondent's Obligation: Mandatory.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2022-04527 Filed 3-9-22; 8:45 am]

BILLING CODE 4312-52-P